DEPARTMENT OF STATE

[Public Notice 4606]

Renewal of the Charter of the United States International Telecommunication Advisory Committee

Summary: The Charter of the United States International Telecommunication Advisory Committee (ITAC) has been renewed for an additional two years.

ITAC is established under the general authority of the Secretary of State and the Department of States as set forth in title 22, sections 2656 and 2707, of the United States Code. The purpose of the United States Telecommunication Advisory Committee is to advise the Department of State with respect to, and provide strategic planning recommendations on, telecommunication and information policy matters related to the United States' participation in the work of the International Telecommunication Union, the Permanent Consultative Committees of the Organization of American States Inter-American Telecommunication Commission, the Organization for Economic Cooperation and Development, and the Asia-Pacific Economic Cooperation. ITAC provides advice on matters of U.S. policy and preparation of positions for meetings of international and regional organizations pertaining to telecommunication and information issues.

Dated: March 4, 2004.
Anne D. Jillson,
Foreign Affairs Officer, Department of State.

[FR Doc. 04-9988 Filed 4-30-04; 8:45 am]

BILLING CODE 4710-07-P